DEPARTMENT OF DEFENSE

Department of the Navy

[Docket ID: USN-2019-HQ-0009]

Submission for OMB Review; Comment Request

AGENCY: Office of the Secretary of the Navy, DoD.

ACTION: 30-Day information collection notice.

SUMMARY: The Department of Defense has submitted to OMB for clearance the following proposal for collection of information under the provisions of the Paperwork Reduction Act.

DATES: Consideration will be given to all comments received by July 22, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION:

Title; Associated Form; and OMB Number: JAG Corps Student Program or Direct Accession Application; OPNAV 1070/3 Internship/Externship Program Application; Structured Interview Questions; OMB Control Number 0703-XXXX.

Type of Request: New.

Affected Public: Individuals or households.

Respondent's Obligation: Voluntary.

JAGC Student Program Direct Accession Application (Online System)

Affected Public: Individuals or Households.

Annual Burden Hours: 1,600.

Number of Respondents: 800.

Responses per Respondent: 1.

Annual Responses: 800.

Average Burden per Response: 2 hours.

Frequency: On occasion.

Structured Interviews

Affected Public: Individuals or Households.

Annual Burden Hours: 500.

Number of Respondents: 500.

Responses per Respondent: 1.

Annual Responses: 500.

Average Burden per Response: 1 hour.

Frequency: On occasion.

OPNAV Form 1070/3 Internship/Externship Program Application

Affected Public: Individuals or Households.

Annual Burden Hours: 100.

Number of Respondents: 100.

Responses per Respondent: 1.

Annual Responses: 100.

Average Burden per Response: 1 hour.

Frequency: On occasion.

Total

Annual Burden Hours: 2,200 hours.

Number of Respondents: 900 (the approximately 500 interview respondents are selected from the online system's existing pool of applicants).

Responses per Respondent: 1.556.

Annual Responses: 1,400.

Average Burden per Response: 1.5714 hours.

Needs and Uses: The online system application is used for both the U.S. Navy JAGC Student Program and Direct Accession Program. The Student Program offers law students an opportunity to apply for a commission to the JAGC. The Direct Accessions Program offers practicing attorneys the opportunity to apply for a commission to the JAGC. The structured interview is subsequently offered to applicants judged to be most competitive for the JAGC Student Program or Direct Accession Program. The Internship/Externship Program (OPNAV Form 10703/3), is available throughout the year for programs offered in the summer, fall and spring. The Internship/Externship Program offers law students the opportunity to intern with the JAGC while in law school.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: June 14, 2019.
Aaron T. Siegel,
Alternate OSD Federal Register Liaison Officer, Department of Defense.

[FR Doc. 2019-13039 Filed 6-19-19; 8:45 am]

BILLING CODE 3810-FF-P